FEDERAL MARITIME COMMISSION

Ocean Transportation Intermediary License; Reissuance

Notice is hereby given that the following Ocean Transportation Intermediary licenses have been reissued by the Federal Maritime Commission pursuant to section 19 of the Shipping Act of 1984 (46 U.S.C. Chapter 409) and the regulations of the Commission pertaining to the licensing of Ocean Transportation Intermediaries, 46 CFR part 515.

License No. | Name/Address | Date reissued
004437N | Superior Freight Services, Inc., 1230 Trapp Road, Eagan, MN 55121 | December 8, 2011.
021837F | Cargo America, Inc., 332 S. Wayside Drive, Houston, TX 77011 | November 10, 2010.
023375N | SDS Trans Inc., 145-38 157th Street, 1st Floor, Jamaica, NY 11434 | December 2, 2011.

Sandra Kusumoto,
Director, Bureau of Certification and Licensing.

[FR Doc. 2012-2225 Filed 1-31-12; 8:45 am]

BILLING CODE 6730-01-P